ENVIRONMENTAL PROTECTION AGENCY

[EPA-HQ-OPP-2012-0780; FRL-9403-1]

Issuance of an Experimental Use Permit

AGENCY: Environmental Protection Agency (EPA).

ACTION: Notice.

SUMMARY: EPA has granted an experimental use permit (EUP) to the pesticide applicant Monsanto Company. An EUP permits use of a pesticide for experimental or research purposes only in accordance with the limitations in the permit.

FOR FURTHER INFORMATION CONTACT: Robert McNally, Biopesticides and Pollution Prevention Division (7511P), Office of Pesticide Programs, Environmental Protection Agency, 1200 Pennsylvania Ave. NW., Washington, DC 20460-0001; telephone number: (703) 305-7090; email address: BPPDFRNotices@epa.gov.

SUPPLEMENTARY INFORMATION:

I. General Information

A. Does this action apply to me?

This action is directed to the public in general. Although this action may be of particular interest to those persons who conduct or sponsor research on pesticides, the Agency has not attempted to describe all the specific entities that may be affected by this action.

B. How can I get copies of this document and other related information?

The docket for this action, identified by docket identification (ID) number EPA-HQ-OPP-2012-0780, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUP

EPA has issued the following EUP:

524-EUP-104. (EPA-HQ-OPP-2012-0780). Issuance. Monsanto Company, 800 N. Lindbergh Blvd., St. Louis, MO 63167. This EUP, issued on March 1, 2013, allows planting and associated activities, e.g., collection of field data, harvesting, processing of corn plant incorporated protectants (PIPs) seeds containing active ingredients, corn PIPs with MON 87410 and MON 87411. The PIPs contain a Dv49 double stranded RNA (dsRNA) suppression cassette in combination with Bacillus thuringiensis (Bt) Cry Proteins (Cry1A.105, Cry2Ab2, Cry1F, Vip3Aa20, Cry3Bb1, Cry34Ab1/Cry35Ab1, and eCry3.1Ab). Tests to control corn root worm (CRW) are authorized from March 1, 2013, through February 28, 2015. Field trials will be conducted in the U.S. territory of Puerto Rico and in the following 22 U.S. states: Arkansas, California, Colorado, Georgia, Hawaii, Idaho, Illinois, Indiana, Iowa, Kansas, Michigan, Minnesota, Mississippi, Missouri, Nebraska, North Carolina, Ohio, Pennsylvania, South Carolina, South Dakota, Tennessee, and Wisconsin. Approximately 3,392,742 pounds (lb) of seed containing 48.41 lb (21,958 grams) of active ingredient (2.54, 4.04, 1.57, 12.68, 2.2 × 10⁻⁵, 8.45, 16.65, 0.41, and 2.07 lb of Cry1F, Cry1A.105, Cry2Ab2, Vip3Aa20, Dv49 dsRNA, Cry3Bb1, Cry34Ab1, Cry35Ab1, eCry3.1Ab, respectively) are to be planted over 20,893 acres, including Bt and dsRNA PIP (17,740) and non-PIP (3,153) acreage. The two protocols in the EUP include: (1) Seed development and increase for future testing including nursery observations of traits in various genetic backgrounds; and (2) product characterization work including phenotypic and agronomic observations, efficacy and yield benefit evaluations regulatory data generation.

Authority: 7 U.S.C. 136c.

List of Subjects

Environmental protection, Experimental use permits.

Dated: November 7, 2013.
Daniel J. Rosenblatt,
Acting Director, Registration Division, Office of Pesticide Programs.

[FR Doc. 2013-27994 Filed 11-20-13; 8:45 am]

BILLING CODE 6560-50-P